DEPARTMENT OF COMMERCE

INTERNATIONAL TRADE ADMINISTRATION

(A-484-801)

Electrolytic Manganese Dioxide From Greece: Final Results of Antidumping Duty Administrative Review

AGENCY: Import Administration, International Trade Administration, Department of Commerce

ACTION: Notice of final results of antidumping duty administrative review.

SUMMARY: On May 15, 2000, the Department of Commerce published the preliminary results of administrative review of the antidumping duty order on electrolytic manganese dioxide from Greece. The review covers one producer/exporter, Tosoh Hellas, during the period of review April 1, 1998, through March 31, 1999.

We gave interested parties an opportunity to comment on the preliminary results. We have made one change in our calculations. The review indicates the existence of no dumping margins for Tosoh Hellas during this period.

EFFECTIVE DATE: November 15, 2000.

FOR FURTHER INFORMATION CONTACT: Hermes Pinilla or Richard Rimlinger, Office of AD/CVD Enforcement 3, Import Administration, International Trade Administration, U.S. Department of Commerce, Washington, D.C. 20230; telephone: (202) 482-3477 or (202) 482-4477, respectively.

SUPPLEMENTARY INFORMATION:

The Applicable Statute and Regulations

Unless otherwise indicated, all citations to the Tariff Act of 1930, as amended (the Act) are references to the provisions effective January 1, 1995, the effective date of the amendments made to the Act, by the Uruguay Round Agreements Act (URAA). In addition, unless otherwise indicated, all citations to the Department of Commerce's (the Department's) regulations are to 19 CFR Part 351 (1999).

Background

On May 8, 2000, the Department published in the Federal Register the preliminary results of the administrative review of the antidumping duty order on electrolytic manganese dioxide (EMD) from Greece. See Preliminary Results of Antidumping Duty Administrative Review: Electrolytic Manganese Dioxide from Greece, 65 FR 26570 (May 8, 2000) (Preliminary Results). Kerr-McGee Chemical LLC and Chemetals, Inc. (collectively “the petitioners”), submitted their case briefs on June 7, 2000. Tosoh Hellas (Tosoh), the sole respondent in this review, submitted its case brief on June 7, 2000. Tosoh submitted its rebuttal brief on June 12, 2000. The petitioners did not submit a rebuttal brief. We held a hearing on June 29, 2000. The Department has conducted this administrative review in accordance with section 751 of the Act.

Scope of Review

Imports covered by this review are shipments of EMD from Greece. EMD is manganese dioxide (MnO2) that has been refined in an electrolysis process. The subject merchandise is an intermediate product used in the production of dry-cell batteries. EMD is sold in three physical forms (powder, chip, or plate) and two grades (alkaline and zinc chloride). EMD in all three forms and both grades is included in the scope of the order. This merchandise is currently classifiable under item number 2820.10.0000 of the Harmonized Tariff Schedule of the United States (HTSUS). The HTSUS number is provided for convenience and customs purposes. It is not determinative of the products subject to the order. The written product description remains dispositive.

Analysis of Comments Received

All issues raised in the case and rebuttal briefs by the petitioners and Tosoh are addressed in the “Issues and Decision Memorandum” (Decision Memo) from Richard W. Moreland, Deputy Assistant Secretary, to Troy H. Cribb, Acting Assistant Secretary, dated November 6, 2000, which is hereby adopted by this notice. A list of the issues which parties have raised and to which we have responded, all of which are in the Decision Memo, is attached to this notice as an appendix. This Decision Memo, which is a public document, is on file in the Central Records Unit, Main Commerce Building, Room B-099, and is accessible on the Web at http://ia.ita.doc.gov. The paper copy and electronic version of the Decision Memo are identical in content.

Sunset Revocation

On April 20, 2000, the International Trade Commission (ITC), pursuant to section 751(c) of the Act, determined that revocation of the antidumping duty order on EMD from Greece would not be likely to lead to continuation or recurrence of material injury within a reasonably foreseeable time. Therefore, because the order was revoked on May 31, 2000, as a result of the ITC's determination with an effective date of January 1, 2000, no deposit requirements will be effective for shipments entered, or withdrawn from warehouse, for consumption on or after the publication date of the final results of this administrative review.

Changes From the Preliminary Results

We made one change in our calculations for these final results. We used Tosoh's revised U.S. variable cost-of-manufacturing figure in our margin calculation (see Decision Memorandum, Comment 2).

Final Results of Review

We have determined that a weighted-average margin of zero percent exists for Tosoh for the period April 1, 1998, through March 31, 1999. The Department will issue appraisement instructions directly to the Customs Service.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination in accordance with sections 751(a)(1) and 777(i)(1) of the Act.

Dated: November 3, 2000.
Richard W. Moreland,
Acting Assistant Secretary for Import Administration.

Appendix

Comments and Responses

1. Facts Available

2. Foreign Like Product

3. Home Market Viability/Particular Market Situation

4. Date of Sale

5. Credit Expense

[FR Doc. 00-29258 Filed 11-14-00; 8:45 am]

BILLING CODE 3510-DS-P